DEPARTMENT OF JUSTICE

Antitrust Division

Notice Pursuant to the National Cooperative Research and Production Act of 1993—Border Security Technology Consortium

Notice is hereby given that, on May 2, 2022, pursuant to Section 6(a) of the National Cooperative Research and Production Act of 1993, 15 U.S.C. 4301 et seq. (“the Act”), Border Security Technology Consortium (“BSTC”) has filed written notifications simultaneously with the Attorney General and the Federal Trade Commission disclosing changes in its membership. The notifications were filed for the purpose of extending the Act's provisions limiting the recovery of antitrust plaintiffs to actual damages under specified circumstances. Specifically, Huckworthy LLC, Cape Charles, VA; LAINE LLC dba LAINE Technologies, Goose Creek, SC; ManTech International Corporation, Herndon, VA; MetroStar Systems LLC, Reston, VA; Scientific Research Corporation, Atlanta, GA; The NOMAD Group LLC, Morristown, NJ; UEC Electronics, Hanahan, SC; and Universal Strategic Advisors LLC, Irvine, CA, have been added as parties to this venture.

Lastly, Border Security Technology Consortium (“BSTC”) has changed its name to Homeland Security Technology Consortium (“HSTech”).

No other changes have been made in either the membership or planned activity of the group research project. Membership in this group research project remains open, and BSTC (now HSTech) intends to file additional written notifications disclosing all changes in membership.

On May 30, 2012, BSTC (now HSTech) filed its original notification pursuant to Section 6(a) of the Act. The Department of Justice published a notice in the Federal Register pursuant to Section 6(b) of the Act on June 18, 2012 (77 FR 36292).

The last notification was filed with the Department on January 18, 2022. A notice was published in the Federal Register pursuant to Section 6(b) of the Act on March 10, 2022 (87 FR 13760).

Suzanne Morris,
Chief, Premerger and Division Statistics, Antitrust Division.

[FR Doc. 2022-11512 Filed 5-27-22; 8:45 am]

BILLING CODE P